DEPARTMENT OF HEALTH AND HUMAN SERVICES

Centers for Disease Control and Prevention

Notice of Award of a Single-Source Cooperative Agreement To Fund Institut Pasteur de Cote d'Ivoire (IPCI)

AGENCY: Centers for Disease Control and Prevention (CDC), Department of Health and Human Services (HHS).

ACTION: Notice.

SUMMARY: The Centers for Disease Control and Prevention (CDC), located within the Department of Health and Human Services (HHS), announces the award of approximately $1,000,000, for Year 1 of funding to the IPCI to sustain decentralization of HIV-associated microbiology at regional hospitals and to expand interventions to additional regional hospitals. The award will improve support to and the coordination of the TB and OIs laboratory network for quality assured diagnosis of TB/DR-TB, including smear microscopy (LED), Lipoarabinomannan Assay (LF-LAM) for the diagnosis and screening of active tuberculosis in people with HIV, solid and liquid culture, and molecular WHO-recommended diagnostic tests (LIPA, Xpert Ultra). Funding amounts for years 2-5 will be set at continuation.

DATES: The period for this award will be September 30, 2022 through September 29, 2027.

FOR FURTHER INFORMATION CONTACT: Titania Techeira, Center for Global Health, Centers for Disease Control and Prevention, CDC Côte d'Ivoire, U.S. Embassy B.P. 730 Abidjan Cidex 03, Telephone: 800-232-6348, Email: iux2@cdc.gov.

SUPPLEMENTARY INFORMATION: The single-source award will strengthen IPCI as the National Reference Laboratory for TB and microbiology tests. This will enable IPCI to better and further sustain the efforts in 27 Anti-Tuberculosis Centers (CATs) and in 16 regional reference laboratories previously supported for decentralized microbiology diagnosis.

IPCI is in a unique position to conduct this work as it is the designated laboratory institution in charge of integrated Disease Surveillance and Response (IDSR) in Cote d'Ivoire by the Ministry of Health (MOH) and Ministry of Scientific Research. IPCI is responsible for the implementation, monitoring, and evaluation of population-based TB, malaria and epidemic disease surveillance, including HIV opportunistic infections, as well as prevention and care policies and interventions.

Summary of the Award

Recipient: IPCI.

Purpose of the Award: The purpose of this award is to sustain decentralization of HIV-associated microbiology at regional hospitals and to expand interventions to additional regional hospitals. It will improve support to and the coordination of the TB and OIs laboratory network for quality assured diagnosis of TB/DR-TB, including smear microscopy (LED), Lipoarabinomannan Assay (LF-LAM) for the diagnosis and screening of active tuberculosis in people with HIV, solid and liquid culture, and molecular WHO-recommended diagnostic tests (LIPA, Xpert Ultra).

Amount of Award: The approximate year 1 funding amount will be $1,000,000 in Federal Fiscal Year (FYY) 2022 funds, subject to the availability of funds. Funding amounts for years 2-5 will be set at continuation.

Authority: Public Law 108-25 (the United States Leadership Against HIV AIDS, Tuberculosis and Malaria Act of 2003).

Period of Performance: September 30, 2022 through September 29, 2027.

Dated: March 2, 2022.
Terrance Perry,
Chief Grants Management Officer, Centers for Disease Control and Prevention.

[FR Doc. 2022-04790 Filed 3-7-22; 8:45 am]

BILLING CODE 4163-18-P